DEPARTMENT OF TRANSPORTATION

Federal Aviation Administration

14 CFR Part 39

[Docket No. FAA-2014-0364; Directorate Identifier 2013-SW-041-AD]

RIN 2120-AA64

Airworthiness Directives; Airbus Helicopters (Previously Eurocopter France) (Airbus Helicopters) Helicopters

AGENCY: Federal Aviation Administration (FAA), DOT.

ACTION: Notice of proposed rulemaking (NPRM).

SUMMARY: We propose to supersede airworthiness directive (AD) 2013-21-01 that currently applies to Eurocopter France Model AS350B, AS350BA, AS350B1, AS350B2, AS350B3, AS350C, AS350D, AS350D1, AS355E, AS355F, AS355F1, AS355F2, AS355N, and AS355NP helicopters. AD 2013-21-01 currently requires certain inspections of each tail rotor pitch horn assembly (pitch horn) for a crack and, if there is a crack, before further flight, replacing the pitch horn with an airworthy pitch horn. AD 2013-21-01 also requires a one-time visual inspection for pitch horns above certain hours time-in-service (TIS). This NPRM would retain the requirements of AD 2013-21-01 but would require a repetitive visual inspection for all pitch horns regardless of hours TIS, which requires allowing the public an opportunity to comment. These proposed actions are intended to detect a crack in the pitch horn to prevent failure of the pitch horn, loss of the anti-torque function, and subsequent loss of control of the helicopter.

DATES: We must receive comments on this proposed AD by August 8, 2014.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the foreign authority's AD, the economic evaluation, any comments received and other information. The street address for the Docket Operations Office (telephone 800-647-5527) is in the ADDRESSES section. Comments will be available in the AD docket shortly after receipt.

For service information identified in this proposed AD, contact Airbus Helicopters, Inc., 2701 N. Forum Drive, Grand Prairie, TX 75052; telephone (972) 641-0000 or (800) 232-0323; fax (972) 641-3775; or at http://www.airbushelicopters.com/techpub.

You may review the referenced service information at the FAA, Office of the Regional Counsel, Southwest Region, 2601 Meacham Blvd., Room 663, Fort Worth, Texas 76137.

FOR FURTHER INFORMATION CONTACT: Robert Grant, Aviation Safety Engineer, Safety Management Group, FAA, 2601 Meacham Blvd., Fort Worth, Texas 76137; telephone (817) 222-5110; email robert.grant@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

On October 7, 2013, we issued AD 2013-21-01, Amendment 39-17625 (78 FR 63853, October 25, 2013) for Eurocopter France (now Airbus Helicopters) Model AS350B, AS350BA, AS350B1, AS350B2, AS350B3, AS350C, AS350D, AS350D1, AS355E, AS355F, AS355F1, AS355F2, AS355N, and AS355NP helicopters. AD 2013-21-01 requires a one-time visual inspection of each pitch horn with 135 or more hours TIS for a crack and, if there is a crack, before further flight, replacing the pitch horn with an airworthy pitch horn. It also requires a dye-penetrant inspection of any pitch horn before it is installed. AD 2013-21-01 was prompted by a report of a crack in the yoke of a pitch horn and is intended to detect a crack in the pitch horn to prevent failure of the pitch horn, loss of the anti-torque function, and subsequent loss of control of the helicopter.

AD 2013-21-01 was prompted by AD No. 2013-0133, dated June 28, 2013, issued by the European Aviation Safety Agency (EASA), which is the Technical Agent for the Member States of the European Union. EASA issued AD No. 2013-0133 to correct an unsafe condition for Model AS350B, AS350BA, AS350BB, AS350B1, AS350B2, AS350B3, AS350D, AS355E, AS355F, AS355F1, AS355F2, AS355N, and AS355NP helicopters. EASA advises of an ongoing investigation of a crack in the yoke of a pitch horn for which a cause has not been determined. The EASA AD requires repetitive visual inspections of each pitch horn for a crack and replacing the pitch horn with a serviceable assembly if a crack is found. EASA states that its AD is an interim action and further action may follow.

This NPRM would retain the actions in AD 2013-12-01 but would require the visual inspection for all pitch horns regardless of hours TIS. This NPRM would also require repeating the visual inspection every 165 hours TIS. This NPRM would also change the requirement for the dye penetration inspection so that it only applies to pitch horns that are not new. Also, since we issued AD 2013-12-01, Eurocopter France has changed its name to Airbus Helicopters. This NPRM reflects that change.

FAA's Determination

These helicopters have been approved by the aviation authority of France and are approved for operation in the United States. Pursuant to our bilateral agreement with France, EASA, its technical representative, has notified us of the unsafe condition described in the EASA AD. We are proposing this AD because we evaluated all known relevant information and determined that an unsafe condition is likely to exist or develop on other helicopters of the same type design.

Related Service Information

We reviewed a Eurocopter (now Airbus Helicopters) Emergency Alert Service Bulletin, Revision 1, dated June 25, 2013 (EASB), with four different numbers. EASB No.05.00.74 is for Model AS350B, B1, B2, B3, BA, and D; the non-FAA type certificated Model AS350BB; and the non-FAA type certificated military Model AS350L1 helicopters. EASB No. 05.00.49 is for non-FAA type certificated military Model AS550A2, C2, C3, and U2 helicopters. EASB No. 05.00.65 is for Model AS355E, F, F1, F2, N, and NP helicopters. EASB No. 05.00.44 is for non-FAA type certificated military Model AS555AF, AN, SN, UF, and UN helicopters. Airbus Helicopters has been informed of a case of a crack on the yoke of a pitch horn, which may lead to failure of the pitch horn, resulting in loss of the anti-torque function. The EASB specifies a check for cracks on the yokes of the two pitch horns and specifies replacing any cracked pitch horn. The EASB states that it may be necessary to modify the log card of the tail rotor blade assembly due to some of the pitch horn part numbers being recorded incorrectly.

EASA classified this EASB as mandatory and issued EASA AD No. 2013-0133, dated June 28, 2013, to ensure the continued airworthiness of these helicopters.

Proposed AD Requirements

This proposed AD would require:

• For parts with 155 or less hours TIS, before exceeding 165 hours TIS, or for parts with more than 155 hours TIS, within 10 hours TIS, visually inspecting each pitch horn for a crack.

• Thereafter, at intervals not to exceed 165 hours TIS, visually inspecting each pitch horn for a crack.

• After each inspection, if there is a crack, before further flight, replacing the pitch horn with an airworthy pitch horn.

• Before installing any pitch horn, P/N 350A121368, with more than 0 hours TIS, dye penetrant inspecting it for a crack.

Differences Between the Proposed AD and the EASA AD

The EASA AD applies to Eurocopter Model AS350BB that does not have an FAA type certificate and therefore is not a part of this proposed AD. The EASA AD does not apply to Eurocopter Model AS350C or AS350D1, but this proposed AD would because those models have an FAA type certificate and may have the applicable pitch horn installed. The proposed AD would require a dye-penetrant inspection before installing a pitch horn; the EASA AD does not.

Interim Action

We consider this AD to be an interim action. If final action is later identified, we might consider further rulemaking then.

Costs of Compliance

We estimate that this proposed AD would affect 938 helicopters of U.S. Registry. We estimate that operators may incur the following costs in order to comply with this proposed AD. Labor costs are estimated at $85 per work hour. We estimate .1 work hour to visually inspect a pitch horn for a total cost of $8.50 per helicopter or $7,973 for the fleet, per inspection cycle. We estimate 1 work hour to do a dye-penetrant inspection, for a total cost of $85 per helicopter. We estimate 1 work hour to replace a part, if necessary, and a cost for required parts of $1,946, for a total cost of $2,031 per helicopter.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2013-21-01, Amendment 39-17625 (78 FR 63853, October 25, 2013), Docket No. FAA-2013-0878, Directorate Identifier 2013-SW-033-AD, and adding the following new AD:

Airbus Helicopters (Previously Eurocopter France Helicopters) (Airbus Helicopters): Docket No. FAA-2014-0364; Directorate Identifier 2013-SW-041-AD.

(a) Applicability

This AD applies to Airbus Helicopters Model AS350B, AS350BA, AS350B1, AS350B2, AS350B3, AS350C, AS350D, AS350D1, AS355E, AS355F, AS355F1, AS355F2, AS355N, and AS355NP helicopters with tail rotor hub pitch horn (pitch horn) assembly, part number (P/N) 350A121368.01, 350A121368.02, 350A121368.03, or 350A121368.04, with a pitch horn, P/N 350A121368.XX, where XX stands for a two-digit dash number, installed, certificated in any category. The pitch horn may be marked with either the pitch horn assembly P/N or pitch horn P/N.

(b) Unsafe Condition

This AD defines the unsafe condition a crack in the yoke of a pitch horn. This condition could result in failure of a pitch horn, loss of the anti-torque function, and subsequent loss of control of the helicopter.

(c) Affected ADs

This AD supersedes AD 2013-21-01, Amendment 39-17625 (78 FR 63853, October 25, 2013).

(d) Comments Due Date

We must receive comments by August 8, 2014.

(e) Compliance

You are responsible for performing each action required by this AD within the specified compliance time unless it has already been accomplished prior to that time.

(f) Required Actions

(1) For parts with 155 or less hours time-in-service (TIS), before exceeding 165 hours TIS, or for parts with more than 155 hours TIS, within 10 hours TIS, and thereafter at intervals not to exceed 165 hours TIS, visually inspect each pitch horn for a crack in the areas shown in Figure 1 of Eurocopter Emergency Alert Service Bulletin (EASB) No. 05.00.74 or No. 05.00.65, both Revision 1 and both dated June 25, 2013, as appropriate for your model helicopter.

(2) If there is a crack, before further flight, replace the pitch horn with an airworthy pitch horn.

(3) Do not install a pitch horn, P/N 350A121368 (any dash number), with more than 0 hours TIS on any helicopter unless it has passed a dye penetrant inspection for a crack in the areas shown in Figure 1 of Eurocopter EASB No. 05.00.74 or No. 05.00.65, both Revision 1 and both dated June 25, 2013, as appropriate for your model helicopter.

(g) Special Flight Permits

Special flight permits are prohibited.

(h) Alternative Methods of Compliance (AMOCs)

(1) The Manager, Safety Management Group, FAA, may approve AMOCs for this AD. Send your proposal to: Robert Grant, Aviation Safety Engineer, Safety Management Group, FAA, 2601 Meacham Blvd., Fort Worth, Texas 76137; telephone (817) 222-5110; email robert.grant@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(i) Additional Information

The subject of this AD is addressed in European Aviation Safety Agency (EASA) AD No. 2013-0133, dated June 28, 2013. You may view the EASA AD on the Internet at http://www.regulations.gov in Docket No. FAA-2014-0364.

(j) Subject

Joint Aircraft Service Component (JASC) Code: 6400 Tail Rotor.

Issued in Fort Worth, Texas, on May 30, 2014.
Lance T. Gant,
Acting Directorate Manager, Rotorcraft Directorate, Aircraft Certification Service.

[FR Doc. 2014-13261 Filed 6-6-14; 8:45 am]

BILLING CODE 4910-13-P